NATIONAL AERONAUTICS AND SPACE ADMINISTRATION

[Notice: (13-080)]

NASA Advisory Council; Commercial Space Committee; Meeting

AGENCY: National Aeronautics and Space Administration.

ACTION: Notice of meeting.

SUMMARY: In accordance with the Federal Advisory Committee Act, Public Law 92-462, as amended, the National Aeronautics and Space Administration (NASA) announces a meeting of the Commercial Space Committee of the NASA Advisory Council (NAC). This Committee reports to the NAC. The meeting will be held for the purpose of soliciting, from the scientific community and other persons, scientific and technical information relevant to program planning.

DATES: Tuesday, July 30, 2013, 9:15 a.m.-5:25 p.m., Local Time.

ADDRESSES: NASA Headquarters, Conference Room 1Q39, 300 E Street SW., Washington, DC 20546.

FOR FURTHER INFORMATION CONTACT: Mr. David M. Lengyel, Human Exploration and Operations Mission Directorate, NASA Headquarters, Washington, DC 20546, (202) 358-0391, fax (202) 358-2946, or dlengyel@hq.nasa.gov.

SUPPLEMENTARY INFORMATION: The meeting will be open to the public up to the capacity of the room. This meeting is also available telephonically and by WebEx. Any interested person may call the USA toll free conference call number (888) 323-3509 or toll number (415) 228-4885, pass code 3340929, to participate in this meeting by telephone. The WebEx link is https://nasa.webex.com/, the meeting number is 990 899 527, and the password is Partners2013*. The agenda for the meeting includes the following topics:

—Commercial Crew Update and Collaborations for Commercial Space Capabilities

—Aeronautics Research Mission Directorate Lessons Learned

—Use of Prizes

—International Space Station Utilization Status and Plans

—Description of NASA's Agency Level Commercialization Study Update

It is imperative that the meeting be held on this date to accommodate the scheduling priorities of the key participants. Attendees will be requested to sign a register and to comply with NASA security requirements, including the presentation of a valid picture photo ID, green card, or passport to Security before access to NASA Headquarters. Foreign nationals attending this meeting will be required to provide a copy of their passport and visa in addition to providing the following information no less than 10 working days prior to the meeting: Full name; gender; date/place of birth; citizenship; visa information (number, type, expiration date); passport information (number, country, expiration date); employer/affiliation information (name of institution, address, country, telephone); title/position of attendee; and home address to Mr. David M. Lengyel via email at dlengyel@hq.nasa.gov or by fax at (202) 358-2885. U.S. citizens and Permanent Residents (green card holders) are requested to submit their name and affiliation 3 working days prior to the meeting to Mr. David M. Lengyel.

Patricia D. Rausch,
Advisory Committee Management Officer, National Aeronautics and Space Administration.

[FR Doc. 2013-16908 Filed 7-12-13; 8:45 am]

BILLING CODE 7510-13-P